FEDERAL MARITIME COMMISSION

[Petition P1-03]

Petition of China Shipping Container Lines Co., Ltd. for a Limited Exemption From Section 9(c) of the Shipping Act of 1984; Notice of Discontinuance

The Commission has received notice that the Petitioner in this matter is withdrawing its Petition due to changed circumstances. Therefore this proceeding is discontinued.

Karen V. Gregory,
Acting Assistant Secretary.

[FR Doc. 03-20225 Filed 8-7-03; 8:45 am]

BILLING CODE 6730-01-P